DEPARTMENT OF THE INTERIOR

National Park Service

[NPS-NERO-GATE-16130; PPNEGATEB0, PPMVSCS1Z.Y00000]

Notice of October and December 2014 Meetings for Gateway National Recreation Area Fort Hancock 21st Century Advisory Committee

AGENCY: National Park Service, Interior.

ACTION: Meeting Notice.

SUMMARY: This notice sets forth the dates of meetings of the Gateway National Recreation Area Fort Hancock 21st Century Advisory Committee occurring in October and December 2014.

DATES: The schedule for future public meetings of the Committee is, as follows:

1. October 17, 2014, at 9:00 a.m. (EASTERN).

2. December 12, 2014, at 9:00 a.m. (EASTERN).

ADDRESSES: For the October and December 2014 meetings, the Committee will meet at The Chapel at Sandy Hook, Hartshorne Drive, Middletown, NJ 07732. Please check www.forthancock21stcentury.org for additional information.

AGENDA: The Committee meeting will consist of the following:

The final agenda will be posted on www.forthancock21stcentury.org prior to each meeting.

FOR FURTHER INFORMATION CONTACT: Further information concerning the meeting may be obtained from John Warren, External Affairs Officer, Gateway National Recreation Area, 26 Hudson Road, Fort Hancock, NJ, at (732) 872-5908 or email forthancock21stcentury@yahoo.com, or by visiting the Committee Web site at www.forthancock21stcentury.org.

SUPPLEMENTARY INFORMATION: In accordance with section 9(a)(2) of the Federal Advisory Committee Act (5 U.S.C. Appendix 1-16), the purpose of the Committee is to provide advice to the Secretary of the Interior, through the Director of the National Park Service, on the development of a reuse plan and on matters relating to future uses of certain buildings at Fort Hancock within Gateway National Recreation Area.

The meeting is open to the public. Interested members of the public may present, either orally or through written comments, information for the Committee to consider during the public meeting. Attendees and those wishing to provide comment are strongly encouraged to preregister through the contact information provided. The public will be able to comment at the October and December 2014 meetings beginning at 1:00 p.m. Written comments will be accepted prior to, during, or after the meeting. Due to time constraints during the meeting, the Committee is not able to read written public comments submitted into the record. Individuals or groups requesting to make oral comments at the public committee meeting will be limited to no more than 5 minutes per speaker. At the discretion of the Committee and only with the approval of the speaker, members may ask questions or clarify issues by sharing relevant information.

Before including your address, telephone number, email address, or other personal indentifying information in your written comments, you should be aware that your entire comment—including your personal identifying information—may be made publicly available at any time. While you may ask us in your comment to withhold your personal identifying information from public review, we cannot guarantee that we will be able to do so. All comments will be made part of the public record and will be electronically distributed to all Committee members.

Date: September 3, 2014.
Alma Ripps,
Chief, Office of Policy.

[FR Doc. 2014-21556 Filed 9-9-14; 8:45 am]

BILLING CODE 4310-EE-P